DEPARTMENT OF TRANSPORTATION

Federal Aviation Administration

Notice of Opportunity for Public Comment on Surplus Property Release at Jack Edwards Airport, Gulf Shores, AL

AGENCY: Federal Aviation Administration (FAA), DOT.

ACTION: Notice of intent to rule on land release request.

SUMMARY: Under the provisions of title 49, U.S.C. 47153(c), notice is being given that the FAA is considering a request from the City of Gulf Shores and the City of Gulf Shores Airport Authority to waive the requirement that a 11.48-acre parcel of surplus property, located at the Jack Edwards Airport, be used for aeronautical purposes.

DATES: Comments must be received on or before May 21, 2015.

ADDRESSES: Comments on this notice may be mailed or delivered in triplicate to the FAA at the following address: Jackson Airports District Office, 100 West Cross Street, Suite B, Jackson, MS 39208-2307.

In addition, one copy of any comments submitted to the FAA must be mailed or delivered to Mr. Robert Craft, Mayor of Gulf Shores, Alabama at the following address: P.O. Box 299, Gulf Shores, AL 36547-0299.

FOR FURTHER INFORMATION CONTACT: Kevin L. Morgan, Program Manager, Jackson Airports District Office, 100 West Cross Street, Suite B, Jackson, MS 39208-2307, (601) 664-9891. The land release request may be reviewed in person at this same location.

SUPPLEMENTARY INFORMATION: The FAA is reviewing a request by the City of Gulf Shores and City of Gulf Shores Airport Authority to release 11.48 acres of surplus property at the Jack Edwards Airport. The property will be purchased by the City of Gulf Shores at fair market value. The released property will be used for civic and safety facilities or as approved by FAA. The property is located on the northwest corner of airport and is adjacent to Gulf Shores Parkway. The net proceeds from the sale of this property will be used for airport purposes.

Any person may inspect the request in person at the FAA office listed above under FOR FURTHER INFORMATION CONTACT.

In addition, any person may, upon request, inspect the request, notice and other documents germane to the request in person at the office of the Gulf Shores Airport Authority.

Issued in Jackson, Mississippi on April 13, 2015.
RANS D. Black,
Manager, Jackson Airports District Office, Southern Region.

[FR Doc. 2015-09203 Filed 4-20-15; 8:45 am]

BILLING CODE 4910-13-P